DEPARTMENT OF DEFENSE

Department of the Air Force

Air Force A-76 Initiatives Cost Comparisons and Direct Conversions (As of Dec. 31, 2000)

The Air Force is in the process of conducting the following A-76 initiatives. Cost comparisons are public-private competitions. Direct conversions are functions that may result in a conversion to contract without public competition. These initiatives were announced and in-progress as of Dec 31, 2000, include the installation and state where the cost comparison or direct conversion is being performed, the total authorizations under study, public announcement date and actual or anticipated solicitation date. The following initiatives are in various stages of completion.

Cost Comparisons
Installation | State | Function(s) | Total authorizations | Public announcement date | Solicitation issued or scheduled date
ANDERSEN | GUAM | COMMUNICATIONS OPERATIONS AND MAINTENANCE | 24 | 15-Sep-00 | 30-May-01
ANDREWS | MD | AIRCRAFT MAINTENANCE AND SUPPLY | 815 | 25-Jul-97 | 26-May-99
ANDREWS | MD | COMMUNICATION FUNCTIONS | 181 | 04-Oct-99 | 26-Sep-01
ANDREWS | MD | HEATING SYSTEMS | 22 | 17-Dec-98 | 18-Feb-00
AVON PARK | FL | RANGE OPERATIONS | 38 | 22-Dec-99 | 15-Sep-01
BEALE | CA | BASE OPERATING SUPPORT | 372 | 08-Sep-99 | 07-Mar-01
BOLLING | DC | SUPPLY AND TRANSPORTATION | 138 | 01-Dec-98 | 12-Sep-00
CARSWELL | TX | BASE OPERATING SUPPORT | 69 | 03-Feb-00 | 05-Jun-01
DAVIS MONTHAN | AZ | BASE SUPPLY | 35 | 04-Jan-00 | 29-Jan-01
EDWARDS | CA | BASE OPERATING SUPPORT | 553 | 09-Dec-98 | 04-May-00
EGLIN | FL | ADMINISTRATIVE SUPPORT | 49 | 22-Sep-99 | 26-Sep-00
EGLIN | FL | AIRCRAFT MAINTENANCE AND SUPPLY | 319 | 15-Sep-00 | 01-Jun-01
EIELSON | AK | COMMUNICATIONS OPERATIONS AND MAINTENANCE | 63 | 29-Oct-99 | 05-Jan-01
ELMENDORF | AK | BASE SUPPLY | 208 | 26-Mar-99 | 21-Apr-00
ELMENDORF | AK | COMMUNICATIONS OPERATIONS AND MAINTENANCE | 66 | 05-Jan-00 | 08-Nov-00
HANSCOM AFB | MA | CIVIL ENGINEERING | 201 | 09-Dec-98 | 25-Feb-00
HANSCOM AFB | MA | EDUCATION/TRAINING AND PERSONNEL | 17 | 25-Nov-98 | 20-Apr-00 ‘’
HILL AFB | UT | BASE OPERATING SUPPORT | 577 | 30-Sep-98 | 15-Mar-01
HOLLOMAN AFB | NM | TEST TRACK | 125 | 18-Nov-99 | 08-Jan-01
HURLBURT COM FL | FL | ADMINISTRATIVE SUPPORT | 33 | 28-Apr-99 | 09-Mar-01
HURLBURT COM FL | FL | COMMUNICATION FUNCTIONS | 50 | 31-Jul-98 | 15-Apr-01
HURLBURT COM FL | FL | ENVIRONMENTAL | 7 | 22-Jun-00 | 15-Mar-01
HURLBURT COM FL | FL | HOUSING MANAGEMENT | 12 | 08-Jun-00 | 01-May-01
KEESLER | MS | MULTIPLE SUPPORT FUNCTIONS | 741 | 21-Sep-99 | 19-Dec-00
LACKLAND | TX | MULTIPLE SUPPORT FUNCTIONS | 1439 | 26-Jan-99 | 09-Aug-99
MAXWELL | AL | EDUCATION SERVICES | 35 | 24-Jul-00 | 29-Sep-00
MAXWELL | AL | MULTIPLE SUPPORT FUNCTIONS | 814 | 28-Apr-98 | 22-Mar-99
MCCHORD | WA | GROUNDS MAINTENANCE | 10 | 14-Jun-99 | 22-Sep-00
MULTIPLE INSTLNS |  | COMMUNICATIONFUNCTIONS | 208 | 03-Aug-99 | 01-Nov-00
LANGLEY | VA
HILL AFB | UT
MULTIPLE INSTLNS |  | COMMUNICATION FUNCTIONS | 141 | 11-Mar-99 | 14-Apr-00
GENERAL MITCHELL | WI
WESTOVER | MA
MINN-ST PAUL | MN
YOUNGSTOWN | OH
WILLOW GROVE | PA
GRISSOM | IN
PITTSBURG | PA
MARCH | CA
HOMESTEAD | FL
CARSWELL | TX
NEW ORLEANS | LA
MULTIPLE INSTLNS |  | EDUCATION SERVICES | 73 | 17-Aug-00 | 25-Jan-01
ANDERSEN | GUAM
EIELSON | AK
ELMENDORF | AK
HICKAM | HI
KADENA | JA
KUNSAN | KR
MISAWA | JA
OSAN | KR
YOKOTA | JA
MULTIPLE INSTLNS |  | MULTIPLE SUPPORT FUNCTIONS | 65 | 14-Jul-99 | 28-Jun-01
CROUGHTON | UK
MOLESWORTH | UK
MULTIPLE INSTLNS |  | PERSONNEL SERVICES | 223 | 16-Jun-00 | 15-Mar-01
BARKSDALE | LA
CANNON | NM
DAVIS MONTHAN | AZ |
DYESS | TX
ELLSWORTH | SD
HOLLOMAN | NM
KEFLAVIK | ICELD
LAJES | AZORE
LANGLEY | VA
MINOT | ND
MOODY | GA
MOUNTAIN HOME | ID
NELLIS | NV
SEYMOUR JOHNSON | NC
SHAW | SC
WHITEMAN | MO
MULTIPLE INSTLNS |  | TRANSIENT AIRCRAFT MAINTENANCE | 15 | 07-Jul-99 | 29-May-00
LAKENHEATH | UK
MILDENHALL | UK
MULTIPLE INSTLNS |  | TRANSIENT AIRCRAFT MAINTENANCE | 24 | 07-Jul-99 | 13-Feb-01
RAMSTEIN | GERMY
SPANGDAHLEM | GERMY
NEW BOSTON | NH | BASE OPERATING SUPPORT | 48 | 03-Dec-97 | 31-Jan-01
NEW ORLEANS NAS | LA | BASE OPERATING SUPPORT | 45 | 03-Feb-00 | 01-Mar-01
OFFUTT | NE | BASE OPERATING SUPPORT | 1568 | 30-Sep-98 | 16-Feb-01
PATRICK | FL | SUPPLY AND TRANSPORTATION | 43 | 14-May-98 | 18-Sep-00
PETERSON | CO | PERSONNEL SERVICES | 90 | 05-Jan-00 | 10-Feb-01
RANDOLPH | TX | MULTIPLE SUPPORT FUNCTIONS | 1224 | 14-Sep-00 | 10-Oct-01
ROBINS | GA | BASE SUPPLY | 131 | 01-Apr-99 | 19-Dec-00
ROBINS | GA | EDUCATION SERVICES | 67 | 07-Jan-99 | 17-Aug-00
ROBINS | GA | ENVIRONMENTAL | 49 | 07-Jun-00 | 20-Apr-01
SCOTT | IL | PERSONNEL SERVICES | 236 | 25-Jun-99 | 19-Feb-01
SEMBACH | GERMY | COMMUNICATION FUNCTIONS | 48 | 18-Dec-98 | 28-Feb-01
SHEPPARD | TX | MULTIPLE SUPPORT FUNCTIONS | 549 | 21-Sep-99 | 29-Jun-00
TRAVIS | CA | VEHICLE OPERATIONS AND MAINTENANCE | 131 | 15-Jul-98 | 24-Aug-00
USAF ACADEMY | CO | CIVIL ENGINEERING | 496 | 01-Dec-98 | 24-Mar-00
USAF ACADEMY | CO | COMMUNICATION FUNCTIONS | 114 | 20-May-99 | 09-Jan-01
USAF ACADEMY | CO | SUPPLY AND TRANSPORTATION | 117 | 08-May-98 | 09-May-00
VANDENBERG AFB | CA | MISSILE STORAGE & MAINTENANCE | 66 | 25-Oct-00 | 27-Apr-01
WHITEMAN | MO | UTILITIES PLANT | 11 | 18-Aug-99 | 01-Jun-00

Direct Conversions
Installation | State | Function(s) | Total authorizations | Public announcement date | Solicitation issued or scheduled date
BOLLING | DC | EDUCATION/TRAINING AND PERSONNEL | 12 | 01-May-00 | 08-Jan-01
COLUMBUS | MS | SURVIVAL EQUIPMENT | 29 | 18-Apr-00 | 15-Apr-01
F E WARREN | WY | BASE COMMUNICATIONS | 105 | 30-Oct-97 | 19-Jul-00
GRAND FORKS | ND | MUNITIONS MAINTENANCE | 5 | 17-May-99 | 08-Dec-00
HICKAM | HI | COMMUNICATIONS OPERATIONS AND MAINTENANCE | 48 | 07-Nov-00 | 30-Apr-01
HICKAM | HI | FURNISHINGS MANAGEMENT | 11 | 27-Jun-00 | 15-Jan-02
HOLLOMAN AFB | NM | MILITARY FAMILY HOUSING MAINTENANCE | 66 | 12-May-97 | 09-Nov-00
KIRTLAND | NM | GENERAL LIBRARY | 6 | 12-Jan-99 | 05-Jan-01
KIRTLAND | NM | RECREATIONAL SUPPORT | 9 | 12-Jan-99 | 05-Jan-01
LANGLEY | VA | AIRCRAFT FLEET SERVICES | 11 | 29-Jun-99 | 25-Sep-00
LANGLEY | VA | COMMUNICATION FUNCTIONS | 8 | 23-Mar-99 | 12-Jan-01
LANGLEY | VA | COMMUNICATIONS ADMINISTRATION AND INFORMATION FUNCTION | 13 | 31-Jan-00 | 28-Feb-01
LANGLEY | VA | DATA PROCESSING EQUIPMENT OPERATIONS | 15 | 04-Nov-99 | 09-Feb-01
MALMSTROM | MT | BASE COMMUNICATIONS | 85 | 06-Oct-97 | 15-Aug-00
MCGUIRE | NJ | FURNISHINGS MANAGEMENT | 2 | 14-May-99 | 13-Oct-00
MCGUIRE | NJ | HEATING SYSTEMS | 6 | 04-May-99 | 18-Oct-00
MINOT | ND | GROUNDS MAINTENANCE | 9 | 18-May-99 | 07-Aug-00
MT HOME | ID | GROUNDS MAINTENANCE | 6 | 20-Jul-99 | 20-Jul-00
MULTIPLE INSTLNS |  | ADMINISTRATIVE SUPPORT | 67 | 08-Aug-00 | 25-Jan-01
ANDERSEN | GUAM
EIELSON | AK
ELMENDORF | AK
HICKAM | HI
KADENA | JA
KUNSAN | KR
MISAWA | JA
OSAN | KR
YOKOTA | JA
MULTIPLE INSTLNS |  | ENVIRONMENTAL | 49 | 27-Sep-00 | TBD
BARKSDALE | LA
CANNON | NM
DAVIS-MONTHAN | AZ
ELLSWORTH | SD
HOLLOMAN | NM
LANGLEY | VA
MINOT | ND
MOODY | GA
MOUNTAIN HOME | ID
NELLIS | NV
SEYMOUR JOHNSON | NC
WHITEMAN | MO
OFFUTT | NE | COMMUNICATION FUNCTIONS | 13 | 17-Nov-00 | 28-Feb-01
OFFUTT | NE | COMPUTER OPERATIONS | 76 | 17-Feb-99 | 21-Jul-00
RANDOLPH | TX | COURSEWARE DEVELOPMENT | 38 | 30-Sep-99 | 30-Jun-00
ROBINS | GA | AIRFIELD MANAGEMENT | 10 | 06-Jun-00 | 24-May-01
ROBINS | GA | GENERAL LIBRARY | 6 | 23-Nov-99 | 30-Apr-01
ROBINS | GA | PROTECTIVE COATING | 8 | 18-Jan-00 | 15-May-01
SCHRIEVER | CO | FOOD SERVICES | 18 | 02-99 | 15-Feb-01
SCOTT | IL | ADMINISTRATIVE SWITCHBOARD | 85 | 05-Aug-99 | 05-Feb-01
SCOTT | IL | FURNISHINGS MANAGEMENT | 3 | 18-Sep-00 | TBD
SHAW | SC | COMMUNICATION FUNCTIONS | 3 | 18-May-99 | 02-Apr-01
SHAW | SC | ENVIRONMENTAL | 2 | 22-Mar-00 | 10-Aug-00
SHAW | SC | RAILROAD TRANSPORTATION SERVICES | 2 | 02-Oct-00 | 22-Jan-01
TINKER | OK | SOFTWARE PROGRAMMING | 67 | 08-May-00 | 01-Jun-01

Janet A. Long,
Air Force Federal Register Liaison Officer.

[FR Doc. 01-3860 Filed 2-14-01; 8:45am]

BILLING CODE 5001-05-U